DEPARTMENT OF COMMERCE

U.S. Census Bureau

Proposed Information Collection; Comment Request; 2020-2022 Report of Organization

AGENCY: U.S. Census Bureau, Commerce.

ACTION: Notice.

SUMMARY: The Department of Commerce, as part of its continuing effort to reduce paperwork and respondent burden, invites the general public and other Federal agencies to take this opportunity to comment on a proposed extension of the Report of Organization, as required by the Paperwork Reduction Act of 1995.

DATES: To ensure consideration, written comments must be submitted on or before May 29, 2020.

ADDRESSES: Direct all written comments to Thomas Smith, PRA Liaison, U.S. Census Bureau, 4600 Silver Hill Road, Room 7K250A, Washington, DC 20233 (or via the internet at PRAcomments@doc.gov). You may also submit comments, identified by Docket Number USBC-2020-0008, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or copies of the information collection instrument(s) and instructions should be directed to Carrie Hill, Economic Statistical Methods Division, U.S. Census Bureau, Room 5H069, Washington, DC 20233-6100 (or by email at Carrie.Anne.Hill@census.gov.)

SUPPLEMENTARY INFORMATION:

I. Abstract

The Census Bureau conducts the annual Report of Organization to update and maintain a central, multipurpose Business Register (BR) database. In particular, the Report of Organization supplies critical information on the composition, organizational structure, and operating characteristics of multi-location companies.

The BR serves two fundamental purposes:

First and most important, it provides sampling populations and enumeration lists for the Census Bureau's economic surveys and censuses, and it serves as an integral part of the statistical foundation underlying those programs. Essential for this purpose is the BR's ability to identify all known United States business establishments and their parent companies. Further, the BR must accurately record basic business attributes needed to control sampling and enumeration. These attributes include industrial and geographic classifications, and name and address information.

Second, it provides establishment data that serve as the basis for the annual County Business Patterns (CBP) statistical series. The CBP publications present data on number of establishments, first quarter payroll, annual payroll, and mid-March employment summarized by industry and employment size class for the United States, the District of Columbia, island areas, counties, and country-equivalents. No other annual or more frequent series of industry statistics provides comparable detail, particularly for small geographic areas.

II. Method of Collection

The 2020-2022 Report of Organization collection strategy will focus on electronic reporting as the standard collection option. The 2020-2021 Report of Organization will request company-level information from a selection of multi-establishment enterprises, which comprise roughly 42,000 parent companies and more than 1.4 million establishments. Additionally, the panel will include approximately 5,000 large single-location companies that may have added locations during the year.

The Census Bureau will conduct the 2022 Report of Organization in conjunction with the 2022 Economic Census and will coordinate these collections to minimize response burden. The consolidated Report of Organization/census mail canvass will direct inquiries to the entire universe of multi-location enterprises that comprises roughly 165,000 parent companies and more than 1.9 million establishments. Additional Report of Organization inquiries will apply to the 15,000 multi-unit establishments classified in industries that are out-of-scope of the economic census.

Electronic reporting will be available to all 2020-2022 Report of Organization respondents. Companies will receive and return responses by secure internet transmission. The instrument will include inquiries on ownership or control by domestic or foreign parent, ownership of foreign affiliates, leased employment and cooperative organization. Further, the instrument will list an inventory of establishments belonging to the company and its subsidiaries, and request updates to these inventories, including additions, deletions and changes to information on EIN, name and address, industrial classification, end-of-year operating status, mid-March employment, first quarter payroll and annual payroll.

III. Data

OMB Control Number: 0607-0444.

Form Number(s): NC-99001 (for multi-establishment enterprises during 2020-2022) and NC-99007 (for single-location companies during 2020-2021).

Type of Review: Regular submission.

Affected Public: Businesses and not-for-profit institutions.

Estimated Number of Respondents: 47,000 per year for 2020-2021 and 165,000 for 2022.

Estimated Time per Response: 3.4 hours for 2020-2021 and 0.44 hours for 2022.

Estimated Total Annual Burden Hours: 159,800 hours for 2020-2021 and 72,600 hours for 2022.

Estimated Total Annual Cost to Public: $0. (This is not the cost of respondents' time, but the indirect costs respondents may incur for such things as purchases of specialized software or hardware needed to report, or expenditures for accounting or records maintenance services required specifically by the collection.)

Respondent's Obligation: Mandatory.

Legal Authority: Title 13 U.S.C. Sections 131 and 182.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 25, 2020.
Sheleen Dumas,
Department PRA Clearance Officer, Office of the Chief Information Officer, Commerce Department.

[FR Doc. 2020-06566 Filed 3-27-20; 8:45 am]

BILLING CODE 3510-07-P